DEPARTMENT OF DEFENSE

Department of the Army

Western Hemisphere Institute for Security Cooperation Board of Visitors; Meeting

AGENCY: Department of the Army, DoD.

ACTION: Notice of open meeting.

SUMMARY: This notice sets forth the schedule and summary agenda for the meeting of the Board of Visitors (BoV) for the Western Hemisphere Institue for Security Cooperation (WHINSEC). Notice of this meeting is required under the Federal Advisory Committee Act (Pub. L. 92-463). This board was chartered on February 1, 2004 in compliance with the requirements set forth in Title 10 U.S.C. 2166.

Dates: December 1-2, 2005.

Time: 9 a.m. to 4:30 p.m. (December 1) and 9 a.m. to 12:30 p.m. (December 2).

Location: Building 35, 7011 Morrison Ave., Fort Benning, GA 31905.

Proposed Agenda: The WHINSEC BoV will receive new members and advisors, receive updates on the status of actions taken on past BoV recommendations and an update on new activities and efforts since December 2004; look into any matters it deems important; while meeting with groups of WHINSEC faculty and students

FOR FURTHER INFORMATION CONTACT: Chip Shelverton, WHINSEC Executive Liaison at (703) 693-2058 or LTC Alfred Brooks, Deputy DFO and Chief, Latin American Branch, Army G-3 at (703) 614-8414.

SUPPLEMENTARY INFORMATION: The meeting is open to the public. Please note that the Board members will arrive at various times on November 30 and may use available time for individual member reviews of special interest items and will convene in plenary session on December 1, 2005. On December 1, the Board will adjourn for lunch between 12 p.m. and 1:30 p.m. Public comment by individuals and organizations may be made from 11 a.m. and 12 p.m. on December 2. Public comment and presentations will be limited to two minutes each and members of the public desiring to make oral statements or presentations must inform the contact personnel, in writing. Requests must be received before Wednesday, November 23, 2005. Mail written presentations and requests to register to attend the public sessions to: Mr. Shelverton at HQDA, Army G-3, DAMO-SSR, 400 Army Pentagon, Washington, DC 20310. Public seating is limited, and is available on a first come, first serve basis.

Brenda S. Bowen,
Army Federal Register Liaison Officer.

[FR Doc. 05-21069 Filed 10-20-05; 8:45 am]

BILLING CODE 3710-08-M